FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Web site (http://www.fmc.gov) or contacting the Office of Agreements at (202) 523-5793 or tradeanalysis@fmc.gov.

Agreement No.: 011290-039.

Title: International Vessel Operators Hazardous Material Association Agreement.

Parties: Aliança Navegacao e Logistica Ltda.; APL Co. PTE Ltd.; A.P. Moller-Maersk A/S; Atlantic Container Line AB; Bermuda Container Line; China Shipping Container Lines Co., Ltd.; CMA CGM, S.A.; COSCO Container Lines Company Limited; Crowley Maritime Corporation; Evergreen Marine Corp. (Taiwan) Ltd.; Hamburg-Südamerikanische Dampfschifffahrts-Gesellschaft KG; Hanjin Shipping Co., Ltd.; Hapag-Lloyd AG; Horizon Lines, LLC; Hyundai Merchant Marine Co., Ltd.; Independent Container Line Ltd.; Kawasaki Kisen Kaisha Ltd.; Marine Transport Management, Inc.; Maruba SCA; Matson Navigation Company; Mitsui O.S.K. Lines, Ltd.; National Shipping Co. of Saudi Arabia; Nippon Yusen Kaisha Line; Orient Overseas Container Line Limited; Safmarine Container Lines; Seaboard Marine Ltd.; Senator Lines GmbH; Tropical Shipping & Construction Co., Ltd.; United Arab Shipping Co. S.A.G.; Yang Ming Marine Transport Corp.; and Zim Integrated Shipping Services, Ltd.

Filing Party: Wayne R. Rohde, Esq.; Sher & Blackwell LLP; 1850 M Street, NW.; Suite 900; Washington, DC 20036.

Synopsis: The amendment revises the composition of the Executive Committee and certain meeting procedures, deletes CMA CGM and United Arab Shipping Company as parties to the Agreement, updates the names and addresses of certain parties to the Agreement, changes Agreement's name, and restates the Agreement.

Agreement No.: 012043-001.

Title: MOL/APL/HMM Japan/USWC Slot Charter Agreement.

Parties: American President Lines, Ltd.; APL Co. Pte. Ltd.; Hyundai Merchant Marine; and Mitsui O.S.K. Lines, Ltd.

Filing Party: Eric C. Jeffrey, Esq.; Goodwin Procter, LLP; 901 New York Avenue, NW.; Washington, DC 20001.

Synopsis: The amendment expands the U.S. geographic scope to include ports in the range from Tacoma/Seattle, WA to Los Angeles, CA.

Dated: February 13, 2009.
By Order of the Federal Maritime Commission.
Karen V. Gregory,
Secretary.

[FR Doc. E9-3521 Filed 2-18-09; 8:45 am]

BILLING CODE 6730-01-P